DEPARTMENT OF STATE

[Public Notice: 11466]

Department of State FY 2019 Service Contract Inventory

AGENCY: Department of State.

ACTION: Notice of release of the Department of State's FY 2019 Service Contract Inventory.

SUMMARY: Acting in compliance with Section 743 of Division C of the Consolidated Appropriations Act of 2010, the Department of State is publishing this notice to advise the public of the availability of the FY 2019 Service Contract Inventory. The FY 2019 Service Contract Inventory includes the FY 2019 Planned Analysis, and the FY 2018 Meaningful Analysis.

DATES: The inventory is available on the Department's website as of July 9, 2021.

FOR FURTHER INFORMATION CONTACT: Marlon D. Henry, Management and Program Analyst, A/EX/CSM, 202-485-7210, HenryMD@state.gov.

SUPPLEMENTARY INFORMATION: The inventory was developed in accordance with guidance issued by the Office of Management and Budget (OMB), Office of Federal Procurement Policy (OFPP). The Department of State has posted its FY 2019 Service Contract Inventory at the following link: https://csm.state.gov/index2.html.

Zachary A. Parker,
Director, Office of Directives Management, U.S. Department of State.

[FR Doc. 2021-15278 Filed 7-16-21; 8:45 am]

BILLING CODE 4710-24-P